DEPARTMENT OF DEFENSE

Office of the Secretary

[Transmittal No. 24-123]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-123, Policy Justification, and Sensitivity of Technology.

Dated: January 8, 2026.
Stephanie J. Bost,
Alternate OSD Federal Register Liaison Officer, Department of Defense.

BILLING CODE 6001-FR-P

BILLING CODE 6001-FR-C

Transmittal No. 24-123

Notice of Proposed Issuance of Letter of Offer Pursuant to Section 36(b)(1) of the Arms Export Control Act, as amended

(i) Prospective Purchaser: Republic of Zambia

(ii) Total Estimated Value:

Major Defense Equipment * | $ 0
Other | $100 million
TOTAL | $100 million

Funding Source: Foreign Military Financing ($80 million); National Funds ($20 million)

(iii) Description and Quantity or Quantities of Articles or Services Under Consideration for Purchase:

Major Defense Equipment (MDE):

None

Non-Major Defense Equipment:

Bell 412 Enhanced Performance exportable medium-lift transport helicopters; radio communication and navigation systems; weather radar and transponder capabilities; qualification and transition training for pilots and maintainers; in-country Contractor Field Service Representatives support; Program Management Reviews; technical assistance and product support; associated aviation ground support equipment; peculiar ground support equipment; hardware; special tools; test equipment; basic issue items; Quality Assurance Team inspections, inventories, validations, and ground run and flight test verification testing; air freight transportation delivery; initial spare, repair, and consumable parts; operator, maintenance, and technical manuals; technical and logistics support services; and other related elements of logistics and program support.

(iv) Military Department: Army (ZA-B-UAD)

(v) Prior Related Cases; if any: None

(vi) Sales Commission; Fee; etc.; Paid; Offered; or Agreed to be Paid: None known at this time

(vii) Sensitivity of Technology Contained in the Defense Article or Defense Services Proposed to be Sold: See Attached Annex

(viii) Date Report Delivered to Congress: January 13, 2025

* as defined in Section 47(6) of the Arms Export Control Act.

POLICY JUSTIFICATION

Zambia—Bell 412 Enhanced Performance Exportable Medium-Lift Transport Helicopters

The Republic of Zambia has requested to buy Bell 412 Enhanced Performance exportable medium-lift transport helicopters; radio communication and navigation systems; weather radar and transponder capabilities; qualification and transition training for pilots and maintainers; in-country Contractor Field Service Representatives support; Program Management Reviews; technical assistance and product support; associated aviation ground support equipment; peculiar ground support equipment; hardware; special tools; test equipment; basic issue items; Quality Assurance Team inspections, inventories, validations, and ground run and flight test verification testing; air freight transportation delivery; initial spare, repair, and consumable parts; operator, maintenance, and technical manuals; technical and logistics support services; and other related elements of logistics and program support. The estimated total cost is $100 million.

This proposed sale will support the foreign policy and national security of the United States (U.S.) by helping to improve the security of an important partner that continues to be an important force for political stability and economic progress in South Central Africa.

The proposed sale will improve Zambia's capability to conduct peacekeeping and regional security, disaster response, and humanitarian aid missions over long distances and in non-standard weather conditions. Zambia will have no difficulty absorbing this equipment into its armed forces.

The proposed sale of this equipment and support will not alter the basic military balance in the region.

The principal contractor will be Bell Textron, located in Fort Worth, TX. The purchaser typically requires offsets. Any offset agreement will be defined in negotiations between the purchaser and the contractor.

Implementation of this proposed sale will not require the assignment of any additional U.S. Government or contractor representatives to Zambia.

There will be no adverse impact on U.S. defense readiness as a result of this proposed sale.

Transmittal No. 24-123

Notice of Proposed Issuance of Letter of Offer Pursuant to Section 36(b)(1) of the Arms Export Control Act

Annex

Item No. vii

(vii) Sensitivity of Technology:

1. The Bell 412 is a commercial helicopter with integrated commercial off-the-shelf mission equipment. This sale will not involve the release of sensitive technology. The radio communication systems, navigation systems, weather radar, and transponder capabilities are all U.S. Federal Aviation Administration (FAA) certified through supplemental type certificates for civilian airspace usage.

2. The highest level of classification of defense articles, components, and services included in this potential sale is UNCLASSIFIED.

3. A determination has been made that the Republic of Zambia can provide substantially the same degree of protection for the sensitive technology being released as the U.S. Government. This sale is necessary in furtherance of the U.S. foreign policy and national security objectives outlined in the Policy Justification.

4. All defense articles and services listed in this transmittal have been authorized for release and export to the Republic of Zambia.

[FR Doc. 2026-00440 Filed 1-12-26; 8:45 am]

BILLING CODE 6001-FR-P